NUCLEAR REGULATORY COMMISSION

[Docket No. 040-38417; CEQ ID EAXX-429-00-000-1750645380; NRC-2025-0084]

DISA Technologies, Inc.; Environmental Assessment and Finding of No Significant Impact

AGENCY: Nuclear Regulatory Commission.

ACTION: Notice; issuance.

SUMMARY: The U.S. Nuclear Regulatory Commission (NRC) is considering the issuance of a multi-site service provider license to DISA Technologies, Inc. (DISA) for the operation of its high-pressure slurry ablation (HPSA) technology to remediate abandoned uranium mine (AUM) waste. DISA's request is to use the HPSA technology to perform remediation at certain AUM waste sites after additional site-specific safety and environmental information is provided to and approved by the NRC. The NRC staff is issuing a generic environmental assessment (EA) and finding of no significant impact (FONSI) associated with the proposed licensing action.

DATES: The EA and FONSI referenced in this document are available on September 29, 2025.

ADDRESSES: Please refer to Docket ID NRC-2025-0084 when contacting the NRC about the availability of information regarding this document. You may obtain publicly available information related to this document using any of the following methods:

• Federal Rulemaking website: Go to https://www.regulations.gov and search for Docket ID NRC-2025-0084. Address questions about Docket IDs in Regulations.gov to Bridget Curran; telephone: 301-415-1003; email: Bridget.Curran@nrc.gov. For technical questions, contact the individual(s) listed in the For Further Information Contact section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The “Final Environmental Assessment for Proposed Issuance of Multi-Site License to DISA Technologies for Abandoned Uranium Mine Waste Remediation” is available in ADAMS under Accession No. ML25265A212.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Christine Pineda, Office of Nuclear Material Safety and Safeguards, U.S. Nuclear Regulatory Commission, Washington, DC 20555-0001; telephone: 301-415-6789; email: christine.pineda@nrc.gov.

SUPPLEMENTARY INFORMATION:

I. Background

The NRC is making available to the public the “Environmental Assessment for Proposed Issuance of Multi-Site License to DISA Technologies for Abandoned Uranium Mine Waste Remediation.” A notice of availability of the draft EA was published in the Federal Register on August 8, 2025 (90 FR 38514). The public comment period on the draft EA ended on September 8, 2025, and the comments received on the draft EA are addressed in appendix B of the final EA.

The NRC's separate Safety Evaluation Report is available in ADAMS at Accession No. ML25226A192.

II. Introduction

The NRC is considering issuance of a multi-site, service provider license to DISA for operation of its HPSA process at AUM waste sites located primarily in fourteen western states, namely Arizona, California, Colorado, Idaho, Montana, New Mexico, Nevada, North Dakota, Oregon, South Dakota, Texas, Utah, Washington, and Wyoming, and on the Navajo Nation. As required by section 51.21 of title 10 of the Code of Federal Regulations (10 CFR), “Criteria for identification of licensing and regulatory actions requiring environmental assessments,” the NRC has prepared an EA documenting its finding. The NRC concluded that the proposed action would have no significant impact if conditions and proposed operations at each site are consistent with the potential impacts and assumptions detailed in the generic EA. The NRC will review site-specific information submitted by DISA for each site and determine the extent to which further site-specific analysis may be needed.

A summary of the generic EA follows. Based on the results of the EA, the NRC has determined not to prepare an environmental impact statement for the license issuance and is issuing a FONSI.

III. Summary of the Generic Environmental Assessment

Description of the Proposed Action

DISA would use its HPSA technology in the form of mobile units to treat mine waste at AUM waste sites. Use of the HPSA process to separate uranium and thorium fines from mine waste rock and soils would result in licensable quantities and concentrations of source material. The NRC is proposing to issue a license to DISA under 10 CFR part 40, “Domestic Licensing of Source Material,” for the possession and processing of source material. If granted, the license would allow DISA to operate HPSA at AUM waste sites after the NRC has reviewed the site-specific characteristics in a premobilization notification (PMN) that DISA would submit 90 days before mobilizing to a site. The NRC staff plans to complete its safety and environmental review of each PMN within the 90-day premobilization period and will issue a determination that will be placed on the publicly available docket, as to whether DISA may proceed with site remediation.

In addition, DISA would not be able to operate at a given site unless it has obtained all necessary permits and authorizations, as needed, from other Federal agencies and State, Tribal, and local governments. The length of time DISA would be present at each site depends on the amount of material to be processed and could range from about 9 months for small sites to almost 18 years for large sites.

HPSA uses mechanical and kinetic energy to separate mineral-rich patinas containing source material (uranium and/or thorium) and other metals from host sand grains. The HPSA remediation would generate two products: coarse material and fines concentrates. The coarse material would be a sand-like soil and would be reintegrated into the sites assuming the material meets NRC and all other applicable regulatory requirements. DISA would then seed the material with an appropriate grass seed mixture. The fines concentrates, which would contain uranium and/or thorium and other metals, would be transported to a licensed recipient such as a low-level radioactive waste disposal facility or a uranium recovery facility. After HPSA operations conclude, DISA would demobilize and leave the site, including deposited coarse material, in a condition that meets NRC requirements for unrestricted release. DISA would submit a demobilization notification (DMN) that provides DISA's evaluation of how the site meets NRC requirements within 30 days after completing remediation at each site. If the NRC finds that the DMN is not acceptable, the licensee shall submit within 30 days after that determination a plan for resolving outstanding issues, including the timeframe for resolution.

The Need for the Proposed Action

The purpose of the proposed NRC action, issuance of the requested license, is to allow DISA to conduct HPSA activities safely in accordance with the conditions of the license and with applicable NRC requirements under 10 CFR part 20, “Standards for Protection Against Radiation,” and part 40, “Domestic Licensing of Source Material.” The proposed action is in response to DISA's application dated March 28, 2025 (ADAMS Package Accession No. ML25087A094) as supplemented by letters dated June 16, 2025 (ADAMS Accession No. ML25167A328) and July 31, 2025 (ADAMS Package Accession No. ML25213A083).

Approximately 15,000 AUM waste sites have been documented that resulted from a uranium mining industry that began in the 1940s to produce uranium for weapons and later for nuclear fuel.

Environmental Impacts of the Proposed Action

The NRC staff developed a generic assessment of the potential environmental impacts of operating the HPSA remediation at AUM waste sites. The NRC staff assessed the potential impacts on land use; historic and cultural resources; visual and scenic resources; air quality; geology and soils; water resources; ecological resources; socioeconomics; noise; transportation; public and occupational health and safety; and waste management. The NRC staff determined that the proposed action would not have significant impacts on these resource areas if the assumptions described in the draft generic EA are met at a given site. Before mobilizing to a site, DISA would provide site-specific information to the NRC in a PMN, which the NRC staff would review to determine whether the generic EA's assumptions apply for that site. If any site conditions, proposed operations, or potential impacts are not consistent with the impacts and assumptions in the EA, the NRC staff would assess whether further analysis is needed. In all cases, the NRC staff will evaluate the potential impacts of depositing the coarse material back onto the site after HPSA operations conclude, and the NRC or its designee would conduct site-specific consultations to fulfill its consultation responsibilities under Section 7 of the Endangered Species Act and Section 106 of the National Historic Preservation Act.

Environmental Impacts of the Alternatives to the Proposed Action

As an alternative to the proposed issuance of a license to DISA, the NRC considered the no-action alternative. Under the no-action alternative, the NRC would not issue the license and DISA would not be allowed to operate its HPSA units at AUM waste sites. A consequence of denying the license could be that DISA submits a revised application, or that AUM waste sites potentially suitable for HPSA would need to be remediated using other means. In the absence of HPSA operations, the NRC would not be involved in AUM waste site cleanup unless the remedial activity involves another NRC licensee or applicant.

The potential environmental impacts of the no-action alternative would include the direct impacts of continuing current site conditions (i.e., no change to a site) as well as the potential impacts of using remediation alternatives instead of the proposed action. The potential impacts of continuing current site conditions include the continued unavailability of AUM waste site land for human use and the avoidance of the impacts assessed generically in the EA for the proposed HPSA operations. However, the NRC does not have authority over AUM waste site cleanup and did not assess further in the draft generic EA the potential impacts of other remedial actions beyond its jurisdiction and authority. The draft generic EA generally describes two main approaches U.S. Environmental Protection Agency (EPA) uses for remediating AUM sites: excavation and removal, and consolidation and capping. Under the no-action alternative, these and other approaches might be used instead of HPSA or in addition to it.

Agencies and Persons Consulted

The NRC published the draft generic EA to receive comments from individual members of the public, Federal and State agencies, American Indian Tribes, organizations, and other entities. During its review of a site-specific PMN, the NRC staff would consult as needed with the State, agencies of interested American Indian Tribes, other Federal agencies, and others as needed.

Comments on Draft EA

The NRC received comments on the draft EA from members of the public, the EPA, State governments, advocacy organizations, and DISA. Commenters expressed opposition to the proposed HPSA operations; provided suggestions for improving or clarifying specific discussions in the EA, especially regarding potential impacts on water resources; expressed concerns about and requested clarification regarding the regulatory framework for the DISA licensing action; expressed concerns about the lack of site-specific information; and expressed concerns about the bounding assumptions in the EA. The NRC staff's responses to the comments are provided in appendix B of the final EA.

IV. Finding of No Significant Impact

On the basis of the generic EA, the NRC concludes that the proposed licensing action will not have a significant effect on the quality of the human environment. Accordingly, the NRC has determined not to prepare an environmental impact statement for the proposed action.

As described in the generic EA, before DISA mobilizes to a site, the NRC staff would review DISA's PMN and the conditions at that site. The NRC staff would compare the site-specific information to the impacts and assumptions in the generic EA. If HPSA operations at a site would be consistent with the impacts and assumptions in the EA, the FONSI would apply for that site. If there are differences in site conditions, proposed operations, or potential impacts at a site, the NRC staff would determine whether these differences require further analysis. In all cases, the NRC will assess the site-specific impacts of depositing coarse material onto the site, and the NRC or its designee will conduct site-specific consultations under Section 106 of the National Historic Preservation Act and Section 7 of the Endangered Species Act. This site-specific analysis would result in a FONSI or, if necessary, a determination that an environmental impact statement should be prepared.

Dated: September 25, 2025.
For the Nuclear Regulatory Commission.
Robert Sun,
Chief, Environmental Project Management, Branch 2, Division of Rulemaking, Environmental, and Financial Support, Office of Nuclear Material Safety, and Safeguards.

[FR Doc. 2025-18857 Filed 9-26-25; 8:45 am]

BILLING CODE 7590-01-P